DEPARTMENT OF TRANSPORTATION

Federal Aviation Administration

14 CFR Parts 23 and 33

[Docket No. FAA-1998-4815; Amendment No. 23-54 and 33-20]

RIN 2120-AF84

Airworthiness Standards; Bird Ingestion; Correction

AGENCY: Federal Aviation Administration, Transportation.

ACTION: Correcting amendments.

SUMMARY: This document contains corrections to the final regulations for bird ingestion type certification standards that the Federal Aviation Administration (FAA) published in the Federal Register on September 14, 2000 (65 FR 55848), with an effective date of December 13, 2000. These regulations revised the bird ingestion type certification standards for aircraft turbine engines.

DATES: Effective on January 1, 2004.

FOR FURTHER INFORMATION CONTACT: Marc Bouthillier, Engine and Propeller Standards Staff, ANE-110, Engine and Propeller Directorate, Aircraft Certification Service, Federal Aviation Administration (FAA), New England Region, 12 New England Executive Park, Burlington, Massachusetts 01803-5299; telephone (781) 238-7114; fax (781) 238-7199; electronic mail: Marc.bouthillier@faa.gov.

SUPPLEMENTARY INFORMATION:

Background

The final regulations that are the subject of these corrections, revised the bird ingestion type certification standards for aircraft turbine engines to better address the actual bird threat encountered in service, and established nearly uniform bird ingestion standards for aircraft turbine engines certified by the United States under FAA standards and by the Joint Aviation Authorities (JAA) countries under JAA standards, thereby simplifying airworthiness approvals for import and export.

Need for Correction

As published, the final regulations contain errors that may prove to be misleading and need to be clarified.

List of Subjects

14 CFR Part 23

Air transportation, Aircraft, Aviation safety, Safety.

14 CFR Part 33

Air transportation, Aircraft, Aviation safety, Safety.

Accordingly, 14 CFR parts 23 and 33 is corrected by making the following correcting amendments:

PART 23—AIRWORTHINESS STANDARDS: NORMAL, UTILITY, ACROBATIC, AND COMMUTER CATEGORY AIRPLANES

1. The authority citation for part 23 continues to read as follows:

Authority: 49 U.S.C. 106(g), 40113, 44701, 44702, 44704.

2. Correct paragraph (a)(2)(i) of § 23.903 to read as follows:

§ 23.903 [Corrected]

(a) In paragraph (a)(2)(i), the sentence should read “Sections 33.76, 33.77 and 33.78 of this chapter in effect on December 13, 2000, or as subsequently amended; or”.

PART 33—AIRWORTHINESS STANDARDS; AIRCRAFT ENGINES

3. The authority citation for part 33 continues to read as follows:

Authority: 49 U.S.C. 106(g), 40113, 44701, 44702, 44704.

4. Correct paragraphs (b)(1), (c)(1), (c)(7)(ii), (c)(7)(iii), (c)(7)(viii), (c)(7)(i)(x), (c)(8)(v), (c)(8)(v)(i), Table 1 and Table 2 of § 33.76 to read as follows:

§ 33.76 [Corrected]

1. In § 33.76, paragraph (b)(1), in two instances in this sentence, remove the word “rotocraft” and add in its place the word “rotorcraft”.

2. In § 33.76, in paragraph (c)(1), in the second sentence, remove the word “affects” and add in its place the word “effects” and remove the word “roto” and add in its place the word “rotor”.

3. In § 33.76, in paragraph (c)(7)(ii), remove the word “level” and add in its place the word “lever”.

4. In § 33.76, in paragraph (c)(7)(iii), remove the figure “175-percent” and add in its place the figure “75-percent”.

5. In § 33.76, in paragraph (c)(7)(viii), remove the sentence “The durations specified are times at the defined conditions with the power lever being moved between each condition in less than 10 seconds.”

6. In § 33.76, in paragraph (c)(7), add a new paragraph (c)(7)(ix) to read as follows:

* * * * *

(c) * * *

(7) * * *

(ix) The durations specified are times at the defined conditions with the power being changed between each condition in less than 10 seconds.

* * * * *

7. In § 33.76, in paragraph (c)(8)(v), remove the sentence “The duration specified are times at the defined conditions with the power being changed between each condition in less than 10 seconds.”

8. In § 33.76, in paragraph (c)(8), add a new paragraph (c)(8)(vi) to read as follows:

* * * * *

(c) * * *

(8) * * *

(vi) The durations specified are times at the defined conditions with the power being changed between each condition in less than 10 seconds.

* * * * *

9. In § 33.76, in Table 1, in the first column heading, remove the words “Square/meters” and add in their place the words “Square-meters”.

10. In § 33.76, in Table 1, in the first column, second row, remove the figure “(2,029) and add in its place “(2,092)”.

11. In § 33.76, in Table 2, in the first column, second row, remove the figure “.05” and add in its place “0.05”.

12. In § 33.76, in Table 2, in the third column, tenth row, remove the figure “(2,53)” and add in its place “(2.53)”.

Issued in Burlington, Massachusetts, on December 18, 2003.
Peter A. White,
Acting Manager, Engine and Propeller Directorate, Aircraft Certification Service.

[FR Doc. 03-32085 Filed 12-30-03; 8:45 am]

BILLING CODE 4910-13-M